DEPARTMENT OF HEALTH AND HUMAN SERVICES

National Institutes of Health

Center for Scientific Review; Amended Notice of Meeting

Notice is hereby given of a change in the meeting of the Drug and Biologic Therapeutic Delivery Study Section, March 16, 2026, 09:00 a.m. to March 17, 2026, 06:00 p.m., National Institutes of Health, Rockledge II, 6701 Rockledge Drive, Bethesda, MD, 20892 which was published in the Federal Register on February 11, 2026, 91 FR 6321, FRN Doc. 2026-02669.

The meeting date changed from a 2-day meeting to a 1-day meeting, March 16, 2026. The meeting is closed to the public.

Dated: February 12, 2026.
Bruce A. George,
Program Analyst, Office of Federal Advisory Committee Policy.

[FR Doc. 2026-03084 Filed 2-13-26; 8:45 am]

BILLING CODE 4140-01-P